NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: September 15, 2022; 11:00 a.m.-4:00 p.m.

September 16, 2022; 11:00 a.m.-4:00 p.m.

Place: National Science Foundation, 2415 Eisenhower Avenue, Alexandria, Virginia 22314 (Virtual).

Registration for the virtual meeting will be available two weeks prior to the meeting date. Both the agenda and the registration link will be located on the Polar AC website at: https://www.nsf.gov/geo/opp/advisory.jsp.

Type of Meeting: Open.

Contact Person: Sara Eckert, National Science Foundation, 2415 Eisenhower Avenue, Alexandria, Virginia 22314; Telephone: (703) 292-7899.

Minutes: May be obtained from the contact person listed above.

Purpose of Meeting: To provide advice and recommendations to the National Science Foundation concerning support for polar research, education, infrastructure and logistics, and related activities.

Agenda

September 15, 2022; 11:00 a.m.-4:00 p.m. (Virtual)

• Upcoming field seasons and COVID-19

• Subcommittee on Diversity, Equity, and Inclusion

• Subcommittee on Antarctic Research Vessel

• NSF Geoscience Directorate Activities Updates

September 16, 2022; 11:00 a.m.-4:00 p.m. (Virtual)

• International Engagement

• Meeting with the NSF Chief Operating Officer

• NASEM and Polar Research Board

• South Pole Planning

• Polar Community Status

• Polar Partnership

Dated: August 10, 2022.
Crystal Robinson,
Committee Management Officer.

[FR Doc. 2022-17484 Filed 8-12-22; 8:45 am]

BILLING CODE 7555-01-P